DEPARTMENT OF ENERGY

Federal Energy Regulatory Commission

Combined Notice of Filings #1

Take notice that the Commission received the following electric corporate filings:

Docket Numbers: EC20-50-000.

Applicants: Roundhouse Renewable Energy, LLC.

Description: Application for Authorization Under Section 203 of the Federal Power Act, et al. of Roundhouse Renewable Energy, LLC.

Filed Date: 4/10/20.

Accession Number: 20200410-5207.

Comments Due: 5 p.m. ET 5/1/20.

Take notice that the Commission received the following electric rate filings:

Docket Numbers: ER10-2475-019; ER10-2474-019; ER10-3246-013; ER13-1266-022; ER15-2211-019.

Applicants: Nevada Power Company, Sierra Pacific Power Company, PacifiCorp, CalEnergy, LLC, MidAmerican Energy Company.

Description: Supplement to June 28, 2019 Updated Market Power Analysis for the Northwest Region of the BHE Northwest Entities, et al.

Filed Date: 4/13/20.

Accession Number: 20200413-5171.

Comments Due: 5 p.m. ET 5/4/20.

Docket Numbers: ER11-3376-005; ER11-3377-005; ER11-3378-005.

Applicants: North Hurlburt Wind, LLC, Horseshoe Bend Wind, LLC, South Hurlburt Wind, LLC.

Description: Supplement to December 13, 2019 Triennial Market Power Analysis for Northwest Region of North Hurlburt Wind, LLC, et. al.

Filed Date: 4/10/20.

Accession Number: 20200410-5205.

Comments Due: 5 p.m. ET 5/1/20.

Docket Numbers: ER16-1969-007.

Applicants: Midcontinent Independent System Operator, Inc.

Description: Compliance filing: 2020-04-13_NIPSCO Compliance Filing. to be effective 3/20/2020.

Filed Date: 4/13/20.

Accession Number: 20200413-5170.

Comments Due: 5 p.m. ET 5/4/20.

Docket Numbers: ER20-432-000.

Applicants: The Empire District Electric Company.

Description: Supplement and Amendment to November 30, 2019 Application for Waiver of Affiliate Rules of The Empire District Electric Company.

Filed Date: 4/9/20.

Accession Number: 20200409-5191.

Comments Due: 5 p.m. ET 4/30/20.

Docket Numbers: ER20-807-000.

Applicants: Ruff Solar LLC.

Description: Second Supplement to January 15, 2020 Ruff Solar LLC tariff filing.

Filed Date: 4/13/20.

Accession Number: 20200413-5033.

Comments Due: 5 p.m. ET 5/4/20.

Docket Numbers: ER20-1551-000.

Applicants: The Potomac Edison Company, PJM Interconnection, L.L.C.

Description: § 205(d) Rate Filing: The Potomac Edison Company submits ECSA SA No. 4985 to be effective 6/9/2020.

Filed Date: 4/10/20.

Accession Number: 20200410-5147.

Comments Due: 5 p.m. ET 5/1/20.

Docket Numbers: ER20-1552-000.

Applicants: California Independent System Operator Corporation.

Description: Compliance filing: 2020-04-10 Petition for Limited Waiver of Tariff Provisions re RAAIM to be effective N/A.

Filed Date: 4/10/20.

Accession Number: 20200410-5165.

Comments Due: 5 p.m. ET 5/1/20.

Docket Numbers: ER20-1553-000.

Applicants: American Transmission Systems, Incorporated, PJM Interconnection, L.L.C.

Description: § 205(d) Rate Filing: ATSI submits ECSA SA No. 4986 to be effective 6/9/2020.

Filed Date: 4/10/20.

Accession Number: 20200410-5213.

Comments Due: 5 p.m. ET 5/1/20.

Docket Numbers: ER20-1554-000.

Applicants: Southwest Power Pool, Inc.

Description: § 205(d) Rate Filing: 3243R1 City of Piggott, AR Municipal Light, Water and Sewer to be effective 4/1/2020.

Filed Date: 4/13/20.

Accession Number: 20200413-5058.

Comments Due: 5 p.m. ET 5/4/20.

Docket Numbers: ER20-1555-000.

Applicants: Southern California Edison Company.

Description: § 205(d) Rate Filing: UFA Atlas Solar Project TOT870 SA No. 242 to be effective 4/14/2020.

Filed Date: 4/13/20.

Accession Number: 20200413-5080.

Comments Due: 5 p.m. ET 5/4/20.

Docket Numbers: ER20-1556-000.

Applicants: PJM Interconnection, L.L.C.

Description: § 205(d) Rate Filing: Original WMPA, Service Agreement No. 5624; Queue No. AE2-229 to be effective 3/16/2020.

Filed Date: 4/13/20.

Accession Number: 20200413-5083.

Comments Due: 5 p.m. ET 5/4/20.

Docket Numbers: ER20-1557-000.

Applicants: PJM Interconnection, L.L.C.

Description: Tariff Cancellation: Notice of Cancellation of ISAs & ICSA SA Nos. 3598, 3599, 3600; Queue No. U2-041 to be effective 2/3/2020.

Filed Date: 4/13/20.

Accession Number: 20200413-5122.

Comments Due: 5 p.m. ET 5/4/20.

Take notice that the Commission received the following electric securities filings:

Docket Numbers: ES20-20-000.

Applicants: Louisville Gas & Electric Company.

Description: Application Under Section 204 of the Federal Power Act for Authorization to Issue Securities of Louisville Gas and Electric Company.

Filed Date: 4/10/20.

Accession Number: 20200410-5195.

Comments Due: 5 p.m. ET 5/1/20.

Docket Numbers: ES20-21-000.

Applicants: Kentucky Utilities Company.

Description: Application Under Section 204 of the Federal Power Act for Authorization to Issue Securities of Kentucky Utilities Company.

Filed Date: 4/10/20.

Accession Number: 20200410-5196.

Comments Due: 5 p.m. ET 5/1/20.

Docket Numbers: ES20-22-000.

Applicants: American Transmission Company LLC, ATC Management Inc.

Description: Application Under Section 204 of the Federal Power Act for Authorization to Issue Securities of American Transmission Company LLC, et al.

Filed Date: 4/13/20.

Accession Number: 20200413-5136.

Comments Due: 5 p.m. ET 5/4/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 13, 2020.
Nathaniel J. Davis, Sr.,
Deputy Secretary.

[FR Doc. 2020-08153 Filed 4-16-20; 8:45 am]

BILLING CODE 6717-01-P